DEPARTMENT OF AGRICULTURE

Farm Service Agency

[Docket ID: FSA-2025-0235]

Information Collection Request; Emergency Relief Program (ERP) Phase 1 and Phase 2

AGENCY: Farm Service Agency, USDA.

ACTION: Notice; request for comments.

SUMMARY: In accordance with the Paperwork Reduction Act of 1995, the Farm Service Agency (FSA) is requesting comments from all interested individuals and organizations on an extension with a revision of a currently approved information collection for the Emergency Relief Program (ERP) Phase 1 and Phase 2. The application periods for ERP Phase 1 and Phase 2 have ended; however, the collection is continuing because additional information may be needed to verify compliance with program eligibility requirements.

DATES: We will consider comments that we receive by February 3, 2026.

ADDRESSES: We invite you to submit comments on this notice. You may submit comments by this method: Federal eRulemaking Portal: Go to: www.regulations.gov and search for Docket ID FSA-2025-0235. Follow the online instructions for submitting comments.

You may also send comments to the Desk Officer for Agriculture, Office of Information and Regulatory Affairs, Office of Management and Budget, Washington, DC 20503. Copies of the information collection may be requested by contacting Kathy Sayers.

FOR FURTHER INFORMATION CONTACT: For specific questions related to collection activity, contact Kathy Sayers; (202) 720-6870; email: Kathy.Sayers@usda.gov. Individuals who require alternative means of communication for program information should contact the USDA Target Center at (202) 720-2600 (voice) or dial 711 for Telecommunications Relay Service (both voice and text telephone users can initiate this call from any telephone).

SUPPLEMENTARY INFORMATION:

Background

FSA is announcing plans to extend and revise a currently approved information collection that supports ERP Phase 1 and Phase 2. ERP was authorized by Division B, Title I, of the Extending Government Funding and Delivering Emergency Assistance Act (Pub. L. 117-43), and provided assistance for crop, tree, bush, and vine losses that resulted from wildfires, hurricanes, floods, derechos, excessive heat, winter storms, freeze (including a polar vortex), smoke exposure, excessive moisture, and qualifying drought occurring in calendar years 2020 and 2021 (87 FR 30164; 88 FR 1862). The application period has ended for ERP Phase 1 and Phase 2 and payments have been issued.

The Extending Government Funding and Delivering Emergency Assistance Act requires all participants who received an ERP payment to purchase crop insurance or Noninsured Crop Disaster Assistance Program (NAP) coverage for the next 2 available years. To ensure that ERP participants met this statutory requirement, FSA is verifying compliance using crop insurance participation data on file with the Risk Management Agency (RMA) and NAP participation data on file with FSA. FSA is revising the estimated number of respondents and burden hours associated with this collection to reflect the number of participants who received an ERP payment and will be subject to the requirement to purchase crop insurance or NAP coverage, remove forms that are no longer being accepted, and add responses associated with eligibility compliance activities.

Description of Information Collection Request

Title: Emergency Relief Program (ERP) Phase 1 and Phase 2.

OMB Control Number: 0560-0309.

Type of Request: Extension with revision.

OMB Expiration Date: December 31, 2025.

Abstract: The Extending Government Funding and Delivering Emergency Assistance Act (Pub. L. 117-43) requires all producers who received an ERP Phase 1 or Phase 2 payment to purchase crop insurance or Noninsured Crop Disaster Assistance Program (NAP) coverage for the next 2 available years. To ensure that ERP participants met this statutory requirement, FSA is verifying compliance using crop insurance participation data on file with the Risk Management Agency (RMA) and NAP participation data on file with FSA when possible to minimize the burden on producers.

Producers who are determined to be compliant based on FSA or RMA data will be notified of the determination by mail, and no other action will be required. If FSA is not able determine a producer's compliance based on available data, FSA will notify the producer by mail that they must submit supporting documentation to verify their compliance in order to retain their ERP payment. These producers will also be notified of FSA's final determination of compliance or noncompliance.

FSA is revising the estimated respondents and burden hours for this collection to reflect the number of ERP participants and responses associated with these compliance activities. FSA is also removing the forms previously included under this collection and the corresponding respondent and burden hour estimates because the time period to submit the forms has ended. All participants who received an ERP payment have already filed the required forms.

For the following estimated total annual burden on respondents, the formula used to calculate the total burden hour is the estimated average time per response multiplied by the estimated total annual responses.

Estimate of Respondent Burden: Public reporting burden for this information collection is estimated to average 0.102155596 hours per response, including the time for reviewing instructions, searching existing data sources, gathering and maintaining the data needed and completing and reviewing the collections of information.

Respondents: Producers.

Estimated Annual Number of Respondents: 218,930.

Estimated Number of Reponses Per Respondent: 1.12.

Estimated Total Annual Responses: 244,480.

Estimated Average Time per Response: 0.102155596 hours.

Estimated Total Annual Burden on Respondents: 24,975 hours.

We are requesting comments on all aspects of this information collection to help us:

(1) Evaluate whether the proposed collection of information is necessary for the proper performance of the functions of the agency, including whether the information will have practical utility;

(2) Evaluate the accuracy of the agency's estimate of the burden of the collection of information including the validity of the methodology and assumptions used;

(3) Evaluate the quality, utility, and clarity of the information technology; and

(4) Minimize the burden of the information collection on those who respond through the use of appropriate automated, electronic, mechanical, or other technological collection techniques or other forms of information technology.

All comments received in response to this notice, including names and addresses where provided, will be made a matter of public record. Comments will be summarized and included in the request for OMB approval of the information collection.

William Beam,
Administrator, Farm Service Agency.

[FR Doc. 2025-21992 Filed 12-4-25; 8:45 am]

BILLING CODE 3411-E2-P